DEPARTMENT OF LABOR

Office of the Secretary

Submission for OMB Review; Comment Request

August 10, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Employment Standards Administration (ESA).

Title: Applications to Employ Homeworkers Piece Rate Measurements, Homeworkers Handbook.

OMB Number: 1215-0013.

Affected Public: Business or other for-profit; Individuals or households; and Not-for-profit institutions.

Frequency: On occasion.

Reporting Burden:

Title | Agency No. | Number of respondents | Number of responses | Estimated time per response (in minutes) | Burden hours
Application to Employ Homeworkers | WH-46 | 71 | 36 | 30 | 18
Homeworker Handbooks | WH-75 | 4,684 | 18,736 | 30 | 9,368

Recordkeeping Burden:

Title | Number of respondents | Number of responses | Estimated time per response (in minutes) | Burden hours
Piece Rate Measurement | 71 | 213 | 60½ | 215
Homeworker Handbooks | 1,171 | 18,736 | ½ | 156

Total Respondents (Reporting and Recordkeeping): 4,755.

Total Annual Responses (Reporting and Recordkeeping): 18,985.

Total Burden Hours (Reporting and Recordkeeping): 9,757.

Total Annualized Capital/Startup Costs: $0.

Total Annual Costs (operating/maintaining systems or purchasing services): $12.96.

Description: These reporting and recordkeeping requirements for employers and employees in industries employing homeworkers are necessary to insure employees are paid in compliance with the Fair Labor Standards Act.

Type of Review: Extension of a currently approved collection.

Agency: Employment Standards Administration (ESA).

Title: Rehabilitation Maintenance Certification.

OMB Number: 1215-0161.

Affected Public: Individuals or households; Business or other for-profit; Not-for-profit institutions; and State, Local, or Tribal Government.

Frequency: Monthly.

Number of Respondents: 1,300.

Number of Annual Responses: 15,600.

Estimated Time Per Response: 10 minutes.

Total Burden Hours: 2,605.

Total Annualized Capital/Startup Costs: $0.

Total Annual Costs (operating/maintaining systems or purchasing services): $0.

Description: The OWCP-17 serves as a bill submitted by the injured worker or OWCP, requesting reimbursement of expenses incurred due to participation in an approved rehabilitation effort for the preceding four week period or fraction thereof.

Ira L. Mills,
Department Clearance Officer.

[FR Doc. 00-20765 Filed 8-15-00; 8:45 am]

BILLING CODE 4510-27-M